DEPARTMENT OF THE INTERIOR

Fish and Wildlife Service

[FWS-R8-FHC-2017-N014; FXFR1334088TWG0W4-123-FF08EACT00]

Trinity River Adaptive Management Working Group; Public Meeting, Teleconference, and Web-Based Meeting

AGENCY: Fish and Wildlife Service, Interior.

ACTION: Notice.

SUMMARY: We, the U.S. Fish and Wildlife Service, announce a public meeting of the Trinity River Adaptive Management Working Group (TAMWG). The TAMWG is a Federal advisory committee that affords stakeholders the opportunity to give policy, management, and technical input concerning Trinity River (California) restoration efforts to the Trinity Management Council (TMC). The TMC interprets and recommends policy, coordinates and reviews management actions, and provides organizational budget oversight.

DATES: Public meeting, Teleconference, and Web-based meeting: The TAMWG will meet from 9:30 a.m. to 4 p.m. Pacific time on Monday, March 20, 2017, and from 9 a.m. to 2 p.m. Pacific time on Tuesday, March 21, 2017. Submitting Information: If you wish to submit written information or questions for the TAMWG to consider during the meeting, you must contact Joseph Polos (FOR FURTHER INFORMATION CONTACT) no later than March 15, 2017.

ADDRESSES: Meeting: The meeting will be held at the Trinity River Restoration Program Office, 1313 South Main Street, Weaverville, CA 96093.

Teleconference: The call-in number is 866-715-1246, and the participant passcode is 4251781.

Web-based meeting: To join the web-based meeting, go to http://www.mymeetings.com/nc/join.php?sigKey=mymeetings&i=442336293&p=&t=c.

FOR FURTHER INFORMATION CONTACT: Joseph C. Polos, by mail at U.S. Fish and Wildlife Service, 1655 Heindon Road, Arcata, CA 95521; by telephone at 707-822-7201; or by email at joe_polos@fws.gov. Individuals with a disability may request an accommodation by sending an email to either point of contact.

SUPPLEMENTARY INFORMATION: In accordance with the requirements of the Federal Advisory Committee Act, 5 U.S.C. App., we announce that the Trinity River Adaptive Management Working Group will hold a meeting on March 20-21, 2017. The TAMWG affords stakeholders the opportunity to give policy, management, and technical input concerning Trinity River (California) restoration efforts to the TMC. The TMC interprets and recommends policy, coordinates and reviews management actions, and provides organizational budget oversight.

Meeting Agenda

• Agenda/Minutes

• Designated Federal Officer (DFO) updates (including elections of TAMWG officials);

• TMC Chair Report;

• Executive Director's Report;

• Water Year 2017 flow and gravel augmentation recommendations;

• Current TMC issues; and

• Public comment.

The final agenda will be posted on the Internet at http://www.fws.gov/arcata.

Public Input

Interested members of the public may submit relevant information or questions for the TAMWG to consider during the meeting. Written statements must be received by the date listed in DATES, so that the information may be available to the TAMWG for their consideration prior to this meeting. Written statements must be supplied to Joseph Polos in one of the following formats: One hard copy with original signature, one electronic copy with original signature, and one electronic copy via email (acceptable file formats are Adobe Acrobat PDF, MS Word, PowerPoint, or rich text file).

Registered speakers who wish to expand on their oral statements, or those who wished to speak but could not be accommodated on the agenda, may submit written statements to Joseph Polos up to 7 days after the meeting.

Before including your address, phone number, email address, or other personal identifying information in your comment, you should be aware that your entire comment—including your personal identifying information—may be made publicly available at any time. While you can ask us in your comment to withhold your personal identifying information from public review, we cannot guarantee that we will be able to do so.

Meeting Minutes

Summary minutes of the meeting will be maintained by Joseph Polos (see FOR FURTHER INFORMATION CONTACT). The minutes will be available for public inspection within 14 days after the meeting, and will be posted on the TAMWG Web site at http://www.fws.gov/arcata.

Dated: February 22, 2017.
Joseph C. Polos,
Supervisory Fish Biologist, Arcata Fish and Wildlife Office, Arcata, California.

[FR Doc. 2017-03853 Filed 2-27-17; 8:45 am]

BILLING CODE 4333-15-P